CONSUMER PRODUCT SAFETY COMMISSION

16 CFR Part 1224

[Docket No. CPSC-2011-0019]

Revisions to Safety Standard for Portable Bed Rails; Corrections

AGENCY: Consumer Product Safety Commission.

ACTION: Correcting amendments.

SUMMARY: On February 25, 2020, the Consumer Product Safety Commission (Commission or CPSC) issued a direct final rule revising CPSC's mandatory standard for portable bed rails to incorporate by reference the most recent version of the applicable ASTM standard. That document contained typographical errors. In this document, we correct those errors, provide an additional option for viewing the standard, and add new contact information, which will provide the public several ways to contact CPSC, even during the COVID-19 pandemic.

DATES: Effective July 8, 2020.

FOR FURTHER INFORMATION CONTACT: Alberta E. Mills, Division of the Secretariat, U.S. Consumer Product Safety Commission, 4330 East West Highway, Bethesda, MD 20814; telephone: 301-504-7479; email: cpsc-os@cpsc.gov.

SUPPLEMENTARY INFORMATION: The Commission is correcting typographical errors and adding new contact information in the direct final rule, Revisions to Safety Standard for Portable Bed Rails, 16 CFR part 1224, which published in the Federal Register on February 25, 2020. 85 FR 10565. This document corrects typographical errors in § 1224.2, to reference the correct ASTM standard, ASTM F2085-19, and updates the CPSC telephone number to: 301-504-7479. In addition, the document provides another way to view a read-only copy of the standard on the ASTM website at: https://www.astm.org/READINGLIBRARY/, and adds an email address to provide an additional contact option to reach the agency's Secretary: cpsc-os@cpsc.gov. This document does not make any substantive changes to the final rule. We are making these corrections to avoid possible confusion and to provide the public several ways to contact CPSC, even during the COVID-19 pandemic.

List of Subjects in 16 CFR Part 1224

Consumer protection, Imports, Infants and children, Law enforcement, and Toys.

Accordingly, 16 CFR part 1224 is corrected by making the following correcting amendments:

PART 1224—SAFETY STANDARD FOR PORTABLE BED RAILS

1. The authority citation for part 1224 continues to read as follows:

Authority: Sec. 104, Pub. L. 110-314, 122 Stat. 3016 (15 U.S.C. 2056a); Sec 3, Pub. L. 112-28, 125 Stat. 273.

2. Amend § 1224.2 by:

a. Removing the words “ASTM F2805-19” and adding, in its place, the words, “ASTM F2085-19”;

b. Adding a sentence after the third sentence: and

c. Removing the telephone number “301-504-7923,” and adding “301-504-7479, email: cpsc-os@cpsc.gov,” in its place.

The addition reads as follows:

§ 1224.2 Requirements for portable bed rails.

* * * A read-only copy of the standard is available for viewing on the ASTM website at https://www.astm.org/READINGLIBRARY/.* * *

Alberta E. Mills,
Secretary, U.S. Consumer Product Safety Commission.

[FR Doc. 2020-13348 Filed 7-7-20; 8:45 am]

BILLING CODE 6355-01-P